DEPARTMENT OF COMMERCE

National Oceanic and Atmospheric Administration

RIN 0648-XC491

Fisheries of the Gulf of Mexico; Southeast Data, Assessment, and Review (SEDAR); Public Meeting

AGENCY: National Marine Fisheries Service (NMFS), National Oceanic and Atmospheric Administration (NOAA), Commerce.

ACTION: Notice of SEDAR Steering Committee Meeting.

SUMMARY: The SEDAR Steering Committee will meet via webinar. See SUPPLEMENTARY INFORMATION.

DATES: The SEDAR 31 Steering Committee webinar will be held on February 25, 2013, from 11 a.m. to 1 p.m. EST.

ADDRESSES: Meeting address: The webinar will be held via a GoToWebinar Conference. The webinar is open to members of the public. Those interested in participating should contact Andrea Grabman at SEDAR (see FOR FURTHER INFORMATION CONTACT) to request an invitation providing webinar access information. Please request meeting information at least 24 hours in advance.

SEDAR address: 4055 Faber Place Drive, Suite 201, N. Charleston, SC 29405.

FOR FURTHER INFORMATION CONTACT: John Carmichael, SEDAR Program Manager; telephone: (843) 571-4366; email: john.carmichael@safmc.net or Andrea Grabman, SEDAR Administrative Assistant; telephone: (843) 571-4366; email: andrea.grabman@safmc.net.

SUPPLEMENTARY INFORMATION: The South Atlantic, Gulf of Mexico and Caribbean Fishery Management Councils, in conjunction with NOAA Fisheries and the Atlantic and Gulf States Marine Fisheries Commissions, implemented the Southeast Data, Assessment and Review (SEDAR) process for determining the status of fish stocks in the Southeast Region. Oversight of the SEDAR program is provided by a Steering Committee including representatives of the various partner organizations. The Steering Committee meets regularly to discuss assessment project scheduling and SEDAR policies and procedures.

Items for discussion during this webinar include:

1. Gulf Council 2014 benchmark stocks.

2. Caribbean Council 2013 benchmark stocks.

3. South Atlantic Wreckfish Assessment Timing.

4. SEDAR Procedures Workshop: South Atlantic Shrimp Data.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SEDAR office (see ADDRESSES) at least 10 business days prior to the meeting.

Note: The times and sequence specified in this agenda are subject to change.

Dated: February 5, 2013.
Tracey L. Thompson,
Acting Deputy Director, Office of Sustainable Fisheries, National Marine Fisheries Service.

[FR Doc. 2013-02870 Filed 2-7-13; 8:45 am]

BILLING CODE 3510-22-P